DEPARTMENT OF HEALTH AND HUMAN SERVICES

Public Health Service

The National Toxicology Program (NTP) Center for the Evaluation of Risks to Human Reproduction (CERHR) Announces the Availability of the NTP-CERHR Monograph on Di-n-Butyl Phthalate

Summary

The CERHR announces the availability of the NTP-CERHR Monograph on the Potential Human Reproductive and Developmental Effects of Di-n-Butyl Phthalate (DBP). The monograph is posted electronically on the CERHR Web site: http://cerhr/niehs/nih/gov and a limited number of copies in printed text are available from the CERHR by contacting Dr. Michael Shelby, Director CERHR [NIEHS, 79 T.W. Alexander Drive, Building 4401, Room 103, P.O. Box 12233, MD EC-32, Research Triangle Park, NC 27709, telephone: (919) 541-3455; facsimile: (919) 316-4511; shelby@niehs.nih.gov].

NTP-CERHR Monographs

The monograph on DBP is the first in the NTP-CERHR monograph series. This monograph includes three parts: (1) The NTP brief, which presents the NTP's interpretation of the available data and its conclusions on the potential for DBP to cause adverse developmental and reproductive effects in humans, (2) the expert panel report, and (3) all public comments on the expert panel report. The NTP utilized information provided in the expert panel report, the public comments, as well as information from studies published since the expert panel meeting in reaching its conclusions on DBP.

The CERHR follows a formal process for the evaluation of selected chemicals that includes opportunities for public input. The NTP-CERHR monographs are the final products of those evaluations. Monographs on six additional phthalates [butyl benzyl phthalate (BBP), di(2-ethylhexyl) phthalate (DEHP), di-isodecyl phthalate (DIDP), di-isononyl phthalate (DINP), di-n-hexyl phthalate (DnHP), and di-n-octyl phthalate (DnOP)] are in production and the NTP will make them available as soon as they are completed.

All future notifications about the availability of phthalate monographs will be provided through NTP list-server announcements and through the CERHR Web site: http://cerhr.niehs.nih.gov. Anyone can subscribe to the NTP list-server in several ways: (1) By registering online through the NTP Web site at http://ntp-server.niehs.nih.gov, select Announcements, (2) by sending an e-mail to ntpmail-request@list.niehs.nih.gov with the word subscribe as the body of the message, or (3) by contacting the NTP Liaison and Scientific Review Office (919-541-0530 or liaison@starbase.niehs.nih.gov). Individuals or groups who have already subscribed to the NTP list-server do not need to subscribe again.

Background Information about CERHR

The NTP established the NTP CERHR in June 1998 [Federal Register, December 14, 1998: Volume 63, Number 239, page 68782)]. The CERHR is a publicly accessible resource for information about adverse reproductive and/or developmental health effects associated with exposure to environmental and/or occupational agents. The CERHR carries out assessments of these agents following a formal, multi-step, open process that includes rigorous evaluations by independent scientific panels in public forums and opportunities for public input. This process was published in the Federal Register (July 16, 2001: Volume 66, Number 136, pages 37047-37048) and is available on the CERHR Web site under About CERHR or in printed text from the CERHR.

The CERHR invites the nomination of agents for review or scientists for its expert registry. Information about CERHR and the nomination process can be obtained from its homepage (http://cerhr.niehs.nih.gov) or by contacting Dr. Shelby (contact information provided above). The CERHR selects chemicals for evaluation based upon several factors, including production volume, extent of human exposure, public concern, and published evidence of reproductive or developmental toxicity.

Dated: March 7, 2003.
Kenneth Olden,
Director, NTP.

[FR Doc. 03-6444 Filed 3-17-03; 8:45 am]

BILLING CODE 4140-01-P